DEPARTMENT OF LABOR

Office of the Secretary

Submission for OMB Review: Comment Request

February 15, 2007.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number)/e-mail: king.darrin@dol.gov.

Comments should be sent to Office of Information and Regulatory Affairs, Attn: OMB Desk Officer for the Employment Standards Administration (ESA), Office of Management and Budget, Room 10235, Washington, DC 20503, Telephone: 202-395-7316/Fax: 202-395-6974 (these are not a toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension without change of currently approved collection.

Title: Certification By School Official.

OMB Number: 1215-0061.

Form Number: CM-981.

Frequency: Annually.

Type of Response: Reporting.

Affected Public: Individuals or households.

Estimated Number of Respondents: 400.

Estimated Number of Annual Responses: 400.

Estimated Average Response Time: 10 minutes.

Estimated Total Annual Burden Hours: 67.

Total Estimated Annualized capital/startup costs: $0.

Total Estimated Annual Costs (operating/maintaining systems or purchasing services): $0.

Description: CM-981 is completed by a school official to verify whether a Black Lung beneficiary's dependent, aged 18 to 23, qualifies as a full-time student.

Agency: Employment Standards Administration.

Type of Review: Extension without change of currently approved collection.

Title: Davis-Bacon and Related Acts/Contract Work Hours and Safety Standards Act Reporting Requirements—Regulations, 29 CFR part 5.

OMB Number: 1215-0140.

Frequency: On occasion.

Type of Response: Reporting.

Affected Public: Business and other for-profit and Federal Government.

Estimated Number of Respondents: 3,006.

Estimated Number of Annual Responses: 3,006.

Estimated Average Response Time: 15 minutes for conformance reports and 1 hour for requests to approve unfunded fringe benefit plans.

Estimated Total Annual Burden Hours: 756.

Total Annualized capital/startup costs: $0.

Total Annual Costs (operating/maintaining systems or purchasing services): $1,263.

Description: Regulations 29 CFR Part 5 prescribe labor standards for federally financed and assisted construction contracts subject to the Davis-Bacon Act (DBA), 40 U.S.C. 3141 et seq., the Davis-Bacon Related Acts (DBRA), and labor standards for all contracts subject to the Contract Work Hours and Safety Standards Act (CWHSSA), 40 U.S.C. 3701 et seq. The DBA and DBRA require payment of locally prevailing wages and fringe benefits, as determined by the Department of Labor (DOL), to laborers and mechanics on most federally financed or assisted construction projects. See 40 U.S.C. 3142(a) and 29 CFR 5.5(a)(1). The CWHSSA requires the payment of one and one-half times the basic rate of pay for hours worked over forty in a week on most federal contracts involving the employment of laborers or mechanics. See 40 U.S.C. 3702(c) and 29 CFR 5.5(b)(1). The requirements of this information collection consist of: (A) reports of conformed classifications and wage rates, and (B) requests for approval of unfunded fringe benefit plans.

A. Conformance Reports (29 CFR 5.5(a)(1)(ii)): DBA section 1(a) provides that every contract subject to the DBA must contain a provision (a wage determination) stating the minimum wages and fringe benefits to be paid the various classes of laborers and mechanics employed on the contract. See 40 U.S.C. 3141(c)(1) and 29 CFR 5.5(a)(1)(i). This requirement necessitates a method for establishing minimum rates for classes of employees omitted from wage determinations, primarily due to wage data being unavailable; therefore, regulations 29 CFR 5.5(a)(1)(ii) requires that any class of laborer or mechanic not listed in the wage determination that is to be employed under the contract shall be classified in conformance with the wage determination. A report of the conformance action (or, where there is disagreement among the parties, the questions and views of all parties) shall be submitted through the contracting officer to DOL for review and approval. 29 CFR 5.5(a)(3)(i).

B. Unfunded Fringe Benefit Plans (29 CFR 5.5(a)(1)(iv)): The DBA provides that “wages” may include “costs to the contractor or subcontractor which may be reasonably anticipated in providing benefits to laborers or mechanics pursuant to an enforceable commitment to carry out a financially responsible plan or program.” 40 U.S.C. 3141(2)(B)(ii). Where a benefit plan is not of the conventional type described in the DBA and/or common in the construction industry that is established under a customary fund or program, it is necessary to determine from the circumstances whether the benefit is bona fide, as required by the DBA; thus, regulations 29 CFR 5.5(a)(1)(iv) provides for contractors to request approval of unfunded fringe benefit plans.

Agency: Employment Standards Administration.

Type of Review: Extension without change of currently approved collection.

Title: Claim for Compensation by Dependents Information Reports.

OMB Number: 1215-0155.

Frequency: On occasion and Annually.

Type of Response: Reporting.

Affected Public: Individuals or households.

Estimated Number of Respondents: 1,880.

Form/letter | Estimated number of annual responses | Average response time | Estimated annual burden hours
CA-5 | 150 | 90 | 225
CA-5b | 20 | 90 | 30
CA-1031 | 150 | 15 | 37
CA-1074 | 10 | 60 | 10
Student/Dependency | 1,050 | 30 | 525
Comp Due at Death | 500 | 30 | 250
Total | 1,880 |  | 1,077

Total Annualized capital/startup costs: $0.

Total Annual Costs (operating/maintaining systems or purchasing services): $452.

Description: These reports request information from the survivors of deceased Federal employees which verify dependents status when making a claim for benefits and on a periodic basis in accepted claims. Some of the forms are used to obtain information on claimed dependents in disability cases.

Darrin A. King,
Acting Departmental Clearance Officer.

[FR Doc. E7-3547 Filed 2-28-07; 8:45 am]

BILLING CODE 4510-CN-P